DEPARTMENT OF TRANSPORTATION

Federal Railroad Administration

[Docket No. FRA-2002-11533]

Petition for Waiver of Compliance

In 1996, the Federal Railroad Administration (FRA) received from the National Railroad Passenger Corporation (Amtrak) a request for a waiver of compliance from certain requirements of FRA rail safety regulations in order to allow them to develop, implement, and test technology designed to prevent train collisions and overspeed violations. The pilot program was for the development, testing, installation, and demonstration of Incremental Train Control System (ITCS), a communications-based train control system, along Amtrak's Detroit to Chicago corridor. See 61 FR 41199 (August 7, 1996). That petition was docketed as Waiver Petition Docket No. H-96-1. Amtrak requested permission to operate under specified conditions, non-revenue test trains at speeds in excess of 79 mph, not to exceed 110 mph.

On September 24, 1999, the Federal Railroad Administration (FRA) modified certain conditions imposed in approval of Docket No. H-96-1. See 64 FR 25114 (May 19, 1999). FRA approved a phased test program. Phase One included operation of non-revenue test trains at speeds in excess of 79 mph, not to exceed 110 mph. In Phase Two ITCS would be implemented in revenue service with enforcement at speeds not to exceed 79 mph for a period not less than 90 days. Phase Three included implementation of ITCS in revenue service with enforcement at 2 speeds not to exceed 90 mph for a period of not more than 300 days. At the conclusion of the 300 day period, the waiver terminates.

Amtrak is now conducting tests as part of Phase three and as such, is operating non-revenue test trains at speeds up to 110 mph. Permission to operate this test train at that speed was granted in FRA's original approval of H-96-1.

The purpose of this notice is to provide an update of the status of this test program and to clarify the extent of the 1999 waiver modifications. Additionally, this waiver is being re-docketed in the Department of Transportation's Docket Management System to provide the public with electronic access to docketed materials. This public docket, Docket No. FRA-2002-11533 is available for inspection and downloading on the Internet at the docket facility's web site at http://dms.dot.gov. The docket is also available for inspection at DOT Central Docket Management Facility, Room PL-401 (Plaza Level) 400 Seventh Street, SW., Washington. DC.

Issued in Washington, DC on April 11, 2002.
Grady C. Cothen, Jr.,
Deputy Associate Administrator for Safety Standards and Program Development.

[FR Doc. 02-9421 Filed 4-17-02; 8:45 am]

BILLING CODE 4910-06-P